DEPARTMENT OF ENERGY

Federal Energy Regulatory Commission

[ Project No. 9403-007]

Rivermill Hydroelectric, Inc., New Hampshire Hydro Associates; Notice of Transfer of Exemption

August 5, 2013.

1. By letter filed July 19, 2013, Rivermill Hydroelectric, Inc. and New Hampshire Hydro Associates informed the Commission that the exemption from licensing for the HDI Mascoma Dam Project,¹ FERC No. 9403, originally issued September 21, 1988,² has been transferred to New Hampshire Hydro Associates. The project is located on the Mascoma River in Grafton County, New Hampshire. The transfer of an exemption does not require Commission approval.

¹ On July 29, 2013, Commission staff spoke with the exemptee and confirmed correct project name is HDI Mascoma Dam Project.

² 44 FERC ¶ 62,273, Order Granting Exemption from Licensing (5 MW or Less).

2. New Hampshire Hydro Associates is now the exemptee of the HDI Mascoma Dam Project, FERC No. 9403. All correspondence should be forwarded to Rivermill Hydroelectric, Inc., c/o Essex Hydro Associates, L.L.C., located at 55 Main Street, 4th Floor, Boston, MA 02108.

Dated: August 5, 2013.
Kimberly D. Bose,
Secretary.

[FR Doc. 2013-19290 Filed 8-8-13; 8:45 am]

BILLING CODE 6717-01-P